DEPARTMENT OF EDUCATION

[Docket No.: ED-2024-SCC-0140]

Agency Information Collection Activities; Comment Request; Eligibility of Students at Institutions of Higher Education for Funds Under the CARES Act

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before January 14, 2025.

ADDRESSES: To access and review all the documents related to the information collection listed in this notice, please use http://www.regulations.gov by searching the Docket ID number ED-2024-SCC-0140. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Lauren Kennedy, 202-453-7957.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Eligibility of Students at Institutions of Higher Education for Funds under the CARES Act.

OMB Control Number: 1840-0857.

Type of Review: An extension without change of a currently approved ICR.

Respondents/Affected Public: State, Local, and Tribal Governments; Private Sector; Individuals and Households.

Total Estimated Number of Annual Responses: 498,806.

Total Estimated Number of Annual Burden Hours: 42,142.

Abstract: The U.S. Department of Education (Department) is requesting clearance of this information collection request to allow institutions of higher education to meet the requirements under the Higher Education Emergency Relief Fund (HEERF) program. This clearance is intended to cover actions by institutions and their students related to requesting and receiving HEERF funds, such as setting up any institutional application or other process and establishing review and recordkeeping procedures. This will help to ensure that the distribution of funds is managed by institutions in accordance with the clarification discussed in the Final Rule titled Eligibility to Receive Emergency Financial Aid Grants to Students Under the Higher Education Emergency Relief Programs (86 FR 26608). There is no form associated with this request and no information is being collected by the Department.

Dated: November 12, 2024.
Kun Mullan,
PRA Coordinator, Strategic Collections and Clearance, Governance and Strategy Division, Office of Chief Data Officer, Office of Planning, Evaluation and Policy Development.

[FR Doc. 2024-26670 Filed 11-14-24; 8:45 am]

BILLING CODE 4000-01-P